DEPARTMENT OF TRANSPORTATION

Federal Motor Carrier Safety Administration

[Docket No. FMCSA-2022-0122]

Entry-Level Driver Training: State of Alaska Application for Renewal of Exemption

AGENCY: Federal Motor Carrier Safety Administration (FMCSA), Department of Transportation (DOT).

ACTION: Notice of final disposition; granting of renewal of exemption.

SUMMARY: FMCSA announces its final decision to renew the exemption granted to the State of Alaska from the limitations imposed by the commercial driver's license (CDL) regulations on the State's ability to issue restricted CDLs. The exemption renewal allows the State to waive specified portions of the CDL skills test for drivers who reside and operate in 14 defined geographic areas that lack the infrastructure to allow completion of the full skills test. Drivers who receive a restricted CDL under the provisions of the renewed exemption are also exempt from the Entry-Level Driver Training (ELDT) regulations. FMCSA concludes that renewing the exemption, subject to the terms and conditions set forth below, is likely to achieve a level of safety equivalent to or greater than the level of safety that would be achieved absent the exemption.

DATES: The exemption is effective for the period of December 30, 2024, through December 30, 2029.

FOR FURTHER INFORMATION CONTACT: Mr. Richard Clemente, FMCSA Driver and Carrier Operations Division; Office of Carrier, Driver and Vehicle Safety Standards; 202-366-2722. MCPSD@dot.gov. If you have questions on viewing or submitting material to the docket, contact Docket Services, telephone (202) 366-9826.

SUPPLEMENTARY INFORMATION:

I. Public Participation

Viewing Comments and Documents

To view comments, go to www.regulations.gov, insert the docket number “FMCSA-2022-0122” in the keyword box, and click “Search.” Next, sort the results by “Posted (Newer-Older),” choose the first notice listed, click “Browse Comments.”

To view documents mentioned in this notice as being available in the docket, go to www.regulations.gov, insert the docket number “FMCSA-2022-0122” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including safety analyses submitted by the applicant. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)). The exemption may be renewed (49 CFR 381.300(b)).

III. Background

Current Regulatory Requirements

Under 49 CFR 383.3(e), Alaska may waive certain knowledge and skills test requirements and issue restricted CDLs, which are valid only within the State and are subject to certain conditions. To be eligible for a restricted CDL under 49 CFR 383.3(e), drivers must operate exclusively over roads that are not connected to the State highway system and to any highway or vehicular way with an average daily traffic volume greater than 499 (49 CFR 383.3(e)(2)). The Federal Highway Administration, FMCSA's predecessor agency, set the daily traffic volume limit at 499 in 1989 (54 FR 33230) and codified it in the FMCSRs in 1996 (61 FR 9546). Relatedly, ELDT regulations set forth in 49 CFR part 380, subparts F and G, establish minimum training standards for individuals applying for certain CDLs and define curriculum standards for theory and behind-the-wheel training. The ELDT curriculum in 49 CFR part 380, appendix A, section A3.1, requires Class A CDL applicants to demonstrate proficiency in proper techniques for initiating vehicle movement, executing left and right turns, changing lanes, navigating curves at speed, entry and exit on the interstate or controlled-access highway, and stopping the vehicle in a controlled manner. Under 49 CFR 380.603(a)(2), drivers issued a restricted CDL by Alaska are exempt from the ELDT requirements.

Under the CDL regulations, before receiving a CDL from a State, a driver must safely pass an on-road driving test. Requisite skills include: the ability to adjust speed to various driving conditions (49 CFR 383.113(c)(3) and the ability to choose a safe gap when driving around other vehicles (49 CFR 383.113(c)(4)).

IV. Application for Renewal of Exemption

The exemption renewal application was described in detail in a Federal Register notice published on June 18, 2024 (89 FR 51592) and will not be repeated here as the facts have not changed.

V. Public Comments

FMCSA requested public comments on the renewal application but received none.

VI. FMCSA Safety Analysis and Agency Decision

FMCSA has evaluated Alaska's application for renewal of its exemption. The current exemption was granted on December 28, 2022 (87 FR 79932), for the period December 28, 2022, through December 30, 2024. The Agency has monitored the records of drivers who were issued CDLs under this exemption and has found no deterioration of their safety records. Based on its analysis, the Agency has decided to renew Alaska's exemption request from 49 CFR 383.3(e)(2).

The Agency believes that granting a five-year renewal of the exemption allowing Alaska to issue restricted CDLs, subject to the terms and conditions set forth below, will maintain a level of safety that is equivalent to, or greater than, the level of safety achieved without the exemption (49 CFR 381.305(a)). The exemption applies only to CDL applicants who reside in one of the named remote geographical areas identified below and who operate only within those defined areas. In addition, the State may waive only specified elements of the skills test affected by the lack of infrastructure in the identified communities. Individuals applying for a restricted CDL covered by this exemption are exempt from ELDT in accordance with 49 CFR 380.603(a)(2).

VII. Exemption Decision

A. Applicability of Exemption

FMCSA grants Alaska a renewal of an exemption from 49 CFR 383.3(e)(2) for a period of five years subject to the terms and conditions of this decision. Alaska may issue CDLs under this exemption only to drivers who reside in the following communities or areas: ¹

¹ The locales were identified by the State of Alaska's Department of Administration, Division of Motor Vehicles (DMV) and independently verified by FMCSA as lacking the infrastructure for CDL applicants to perform the skills required by 49 CFR 383.113(c)(3) and (c)(4). FMCSA notes that the DMV initially identified 15 affected locales, but FMCSA determined that one of the 15 communities operates on major connected thoroughfares and the distances involved are not dissimilar to that experienced by many rural communities in the western United States. The DMV's letter identifying the affected areas is available in the docket of this Notice and can be accessed at Regulations.gov.

(1) Bethel—within the local Bethel community road network

(2) Prince of Wales Island

(3) Haines—within the Haines community, and along the Haines Highway corridor, ending at the Canadian Border

(4) Ketchikan—within the Ketchikan community and the airport area on the neighboring Annette Island

(5) King Salmon—within the local King Salmon community road network

(6) Kodiak Island

(7) Kotzebue—within the local Kotzebue community road network

(8) Nome—within the local Nome community road network

(9) Mitkof Island (Petersburg)

(10) Sitka—within the local Sitka community road network

(11) Skagway—within the Skagway community and along the Klondike

Highway corridor, ending at the Canadian Border

(12) Unalaska Island

(13) Utqiavik—within the Utqiavik community road network

(14) Wrangell Island

B. Terms and Conditions

Alaska and drivers operating under this exemption are subject to the following terms and conditions:

(1) Alaska must comply with 49 CFR 383.133(b) and 383.135(a) of the knowledge test standards for testing procedures and methods set forth in 49 CFR part 383, subpart H, and must continue to administer knowledge tests that fulfill the content requirements of subpart G.

(2) Alaska may waive only the following portions of the CDL skills test, as set forth in 49 CFR 383.113(c), that cannot be performed due to infrastructure limitations in the identified communities or areas:

• ability to adjust speed to the configuration and condition of the roadway, weather and visibility conditions, traffic conditions, and motor vehicle, cargo, and driver conditions (§ 383.113(c)(3)); and

• ability to choose a safe gap for changing lanes, passing other vehicles, as well as for crossing or entering traffic (§ 383.113(c)(4));

(3) Drivers applying for a CDL to be issued under this exemption must reside in one of the 14 geographic areas identified in Section VII.A of this Notice;

(4) Drivers issued a restricted CDL under this exemption may operate only within the 14 geographic areas identified in Section VII.A of this Notice; and

(5) Drivers must comply with all other applicable Federal Motor Carrier Safety Regulations (49 CFR parts 350-399).

(6) Alaska must include notice on a restricted CDL issued pursuant to this exemption of the geographic area(s) in which the CDL holder may operate a CMV.

C. Preemption

In accordance with 49 U.S.C. 31315(d), as implemented by 49 CFR 381.600, during the period this exemption is in effect, no State shall enforce any law or regulation that conflicts with or is inconsistent with this exemption with respect to a person operating under the exemption.

D. Notification to FMCSA

Alaska must provide to FMCSA, upon request, a list of all drivers issued CDLs under this exemption.

E. Termination

FMCSA does not believe that drivers covered by this exemption will experience any deterioration of their safety records. The Agency will, however, rescind the exemption if: (1) Alaska or drivers operating under the exemption fail to comply with the terms and conditions of the exemption; (2) the exemption results in a lower level of safety than was maintained before it was granted; or (3) continuation of the exemption would not be consistent with the goals and objective of 49 U.S.C. 31136(e) and 31315(b).

Vincent G. White,
Deputy Administrator.

[FR Doc. 2024-22457 Filed 9-30-24; 8:45 am]

BILLING CODE 4910-EX-P